DEPARTMENT OF TRANSPORTATION

Federal Transit Administration

Competitive Research Funding Opportunity: Redesign of Transit Bus Operator Compartment To Improve Safety, Operational Efficiency, and Passenger Accessibility.

AGENCY: Federal Transit Administration (FTA), DOT.

ACTION: Notice of Funding Opportunity (NOFO) and Solicitation of Project Proposals.

SUMMARY: The Federal Transit Administration (FTA) announces the availability of $2,000,000 in Fiscal Year (FY) 2018 Public Transportation Innovation Program (49 U.S.C. 5312) funds for the redesign of the transit bus operator compartment to improve operator and public safety. Bus operator assaults have been increasing. On July 6, 2015, the Transit Advisory Committee for Safety (TRACS) published report 14-01, “Reinventing and Mitigating Transit Worker Assaults in the Bus and Rail Transit Industry,” (14-01 Report) highlighting news articles documenting bus operator assaults. The report recommended incorporating measures such as installing protective barriers and educating the workforce in conflict resolution tactics. This NOFO provides an opportunity to reevaluate the bus operator compartment and develop innovative solutions to the space around the bus operator with the purpose to not just increase safety, but also to improve bus operator efficiency and passenger accessibility. FTA is seeking to fund cooperative agreements to engage in the research and development of new transit bus operator compartment designs in partnership with bus manufacturers, technology vendors, vehicle engineering and design firms, and transit agencies. The major goals of this program are to support a redesign of the bus operator compartment that improves bus operator and public safety, and to improve bus operator access to key vehicle instruments and controls without hindering the accessibility of the bus. Transit agency partners would have an important role to test a promising compartment redesign. This research will apply only to transit buses that are 40 ft. or longer, and almost exclusively used for local, fixed-route public transportation revenue service.

An eligible lead applicant and eligible project partners and subrecipients under this program may include, but are not limited to, providers of public transportation; State and local governmental entities; departments, agencies, and instrumentalities of the Government, including Federal laboratories; private or non-profit organizations; institutions of higher education; and technical and community colleges. This notice solicits competitive proposals to address the objectives described under the Program Description of this notice, provides instructions for submitting proposals, describes criteria FTA will use to identify meritorious proposals for funding, and the process to apply for funding.

This announcement is also available at: https://www.transit.dot.gov/ grants.

A synopsis of this funding opportunity will be posted in the FIND module of the government-wide electronic grants at http://www.grants.gov. The funding Opportunity ID is FTA-2020-003-TRI-BCP and the Catalog of Federal Domestic Assistance (CFDA) number for FTA's Public Transportation Innovation Program (49 U.S.C. 5312) is 20.530.

DATES: Complete proposals are due by 11:59 p.m. EST on Tuesday, March 24, 2020.

ADDRESSES: All proposals must be submitted electronically through the Grants.gov “APPLY” function. Prospective applicants should initiate the process by registering on the Grants.gov website promptly to ensure completion of the application process before the submission deadline. Instructions for applying can be found on FTA's website at https://www.transit.dot.gov/grants and in the “FIND” module of Grants.gov. Mail and fax submissions will not be accepted.

FOR FURTHER INFORMATION CONTACT: Please send any questions related to this notice to Jamel El-Hamri, Office of Research, Demonstration, and Innovation (TRI), by email at Jamel.El-Hamri@dot.gov, or by telephone at (202) 366-8985. A TDD is available for individuals who are deaf or hard of hearing at 1-800-877-8339.

SUPPLEMENTARY INFORMATION:

Contents

A. Program Description

B. Federal Award Information

C. Eligibility Information

1. Eligible Applicants

2. Eligible Projects

3. Cost Sharing or Matching

4. Other Requirements

a. Evaluation and Data Requirements

D. Application and Submission Information

1. Address and Form of Application Submission

2. Proposal Content

3. Unique Entity Identifier and System for Award Management (SAM) Registration in Brief

4. Submission Dates and Times

5. Funding Restrictions

E. Application Review

1. Evaluation Criteria

a. Project Innovation and Impact

b. Project Approach

c. National Applicability

d. Team Capacity and Commitment

e. Commercialization or Dissemination Plan

2. Review and Selection Process

3. SAM Review

F. Federal Award Administration

1. Federal Award Notices

2. Administrative and National Policy Requirements

a. Pre-Award Authority

b. Grant Requirements

c. Planning

d. Standard Assurances Reporting

3. Reporting

G. Federal Awarding Agency Contacts

A. Program Description

FTA's Public Transportation Innovation Program (49 U.S.C. 5312) authorizes FTA to fund research, development, demonstration, and deployment projects to improve public transportation. The “Redesign of Transit Bus Operator Compartment to Improve Safety, Operational Efficiency, and Passenger Accessibility Program” is a competitive research and development opportunity under FTA's research emphasis areas of innovation, infrastructure and safety. This program supports the U.S. Department of Transportation's Safety and Infrastructure goals to provide technical and financial support to design, build, and deploy innovative solutions and advanced-technology systems to make crucial improvements in public transit infrastructure that reduce injuries and fatalities.

Over the past decade, the level and intensity of assaults on transit bus operators has increased. Bus operators are being physically assaulted and do not have enough protection in their bus compartment. Bus operators need a compartment that is safe and secure, and one where they can safely steer transit buses through congested traffic, protecting the lives of passengers, pedestrians, cyclists, and drivers of other vehicles. The physical and emotional impact of these assaults on transit bus operators and their travelers is significant. While many bus operators recover from their physical wounds, the mental and debilitating emotional damage may linger indefinitely.

Transit agencies are not immune to the effects of these assaults. Lost work hours due to related injuries and illness have impacted service. As an indirect consequence ridership decreases due to declines in service reliability and loss of public confidence in buses being secure and safe.

According to the Bureau of Labor Statistics and the National Institute for Occupational Safety and Health, there is an increased risk of workplace violence for workers who have direct contact with the public, have mobile workplaces or deliver services, work in community settings, deliver passengers, handle money, and work in small numbers. Transit bus operators fall into this larger group. Therefore, a safe working environment coupled with access to key instruments and controls is critical for transit bus operators.

The Transit Advisory Committee for Safety (TRACS) states in its 14-01 Report, “protective infrastructure can hinder assault through design and technology, thereby playing a key role in assault mitigation and prevention systems.” Additionally, TRACS recommended FTA conduct further research on protective infrastructure for situations in which transit workers must leave the bus or rail transit vehicle unattended.

For these reasons, FTA is issuing this NOFO to fund innovative proposals that will increase workplace safety for bus operators, reduce the opportunity for assaults, and increase security and safety for travelers. Modifying the bus operator compartment, however, cannot be at the expense of operator visibility of other roadway users or passenger accessibility. Because of this, FTA also seeks to address recommendations put forth by the public transit industry to improve operator visibility of other roadway users and passenger accessibility as equal evaluation criteria for this project.

The primary objectives of this project are as follows:

• Increase bus operator safety from assaults.

• Increase operator visibility to improve safety of pedestrians and other roadway users (e.g. minimizing bus operator blind-spots around A-pillars and mirrors of the bus).

• Increase passenger accessibility for positive interactions between operators and passengers, including assisting passengers in need of special assistance.

• Improve ergonomics to reduce bus operator work-related health issues and injuries, as well as locate key instrument and control interfaces to improve operational efficiency and convenience.

• Reduce operator distractions.

• Accommodate Americans with Disabilities Act compliance for passenger boarding, alighting and securement.

The Redesign of Transit Bus Operator Compartment to Improve Safety, Operational Efficiency and Passenger Accessibility Program will be carried out in two phases, based on the availability of Federal funding.

Phase I: Bus operator compartment re-design competition;

Phase II: Procure, manufacture, and test the redesign through one or more partner transit agencies and vehicle manufacturers.

This notice will provide funding for Phase I; thus, applicants should submit proposals to address Phase I. The post award evaluation process will be managed and conducted by FTA personnel along with FTA hired independent evaluators. Recipients of Phase I awards with the most promising redesigns—as determined by FTA in accordance with the evaluation criteria—will be eligible for Phase II, subject to the availability of funding.

B. Federal Award Information

A total of $2,000,000 in FY 2018 funds is available for award under this announcement. FTA intends to fund as many meritorious projects as possible under this announcement, and FTA recognizes that the available funding may be insufficient to fund all meritorious projects. FTA may, at its discretion, select an application for award of less than the originally-proposed amount if doing so is expected to result in a more advantageous portfolio of projects. Consequently, proposals should provide a detailed budget proposal for the fully-realized project as well as a reduced scope and budget if the project can be scaled down and still achieve useful results. Applicants should specify and justify the minimum award amount needed to achieve effective project results.

FTA anticipates a minimum grant award of $250,000 to maximum amount of $1,000,000. Only proposals from eligible recipients (see section C.1, below) for eligible activities will be considered for funding. Funds made available under this program may be used to fund operating expenses and preventive maintenance directly associated with the demonstration of the proposed prototype transit bus, but may not be used to fund such expenses for equipment not essential to the project.

FTA may, at its discretion, provide additional funds for selections made under this announcement or for additional meritorious proposals, if additional funding is made available for Section 5312 of title 49, United States Code. FTA will announce final selections on its website (www.transit.dot.gov) and may also announce selections in the Federal Register. FTA seeks projects that can be implemented/started within six months of project award. The maximum period of performance allowed for the work covered by the award should not exceed thirty-six (36) months from the date of award.

C. Eligibility Information

1. Eligible Applicants

To be eligible for funding under this notice, applicants must demonstrate that the proposed project is supported by a lead applicant in partnership with one or more strategic partner(s) with a substantial interest and involvement in the project. An application must clearly identify the eligible lead applicant and all project partners on the team.

Eligible lead applicants must be one of the listed entities prescribed below. Additionally, project partners and subrecipients under this program may include, but are not limited to:

(a) Public Transportation Systems;

(b) Private for profit and not-for-profit organizations, including technology system suppliers and bus manufacturers;

(c) Operators of transportation, such as employee shuttle services or airport connector services or university transportation systems;

(d) State or local government entities; and

(e) Other organizations that may contribute to the success of the project team including consultants, research consortia or not-for-profit industry organizations, and institutions of higher education.

The lead applicant must have the ability to carry out the proposed agreement and procurements with strategic partners in compliance with its respective State and local laws. FTA may determine that any named strategic partner in the proposal is a key party and make any award conditional upon the participation of that key party. A key party, as approved by FTA, is essential to the project and is, therefore, eligible for a noncompetitive award to the lead applicant to provide the goods or services described in the application. A key party on a selected project may not later be substituted without FTA's approval. For-profit companies may participate as a strategic partner; however, entities receiving funding under this program may not charge a fee or profit from the FTA research program funding.

In instances where a provider(s) of public transportation is a partner and not the lead applicant, a detailed statement regarding the role of the provider(s) in the conduct of the project is required. Also required is a signed letter from the public transportation service provider's General Manager, or equivalent, of their commitment to the project and the understanding of the agency's roles/responsibilities in the project.

2. Eligible Projects

Applicants may submit one proposal for each project but not one proposal containing multiple projects. Applicants can submit multiple proposals, but each eligible project proposal must demonstrate the redesign proposal meets the three main objectives: Operator safety, operational efficiency, and passenger accessibility.

The goal of this program is to ultimately manufacture the selected redesign proposals from Phase I in Phase II. For this reason, lead applicants must partner with at least one transit agency and at least one transit vehicle manufacturer in Phase I to ensure the redesigns are feasible and can be manufactured into a prototype. Proposals should include a cost-benefit analysis of the redesign.

Proposals should also show how bus operators and their unions will be consulted and involved in the process. FTA will assess the strength of these partnerships and inclusion activities in the evaluation of applications.

At the conclusion of Phase I, feasible redesign project(s) will be selected and move forward to Phase II where applicants will then need to develop and test a prototype bus(es). Proposals in Phase I should include how they intend to test their future prototype, including, but not limited to, a test procedure that validates the redesign's operability, and identification of the test laboratory that will be running the test.

Phase I proposals should be separated into a research phase and design phase. The research phase should document the process to partner with a vehicle transit manufacturer and transit agency. It should also demonstrate how the prototype will meet the objectives described in the Program Description section of this notice, above. The design phase should include engineering drawings and computer renderings that are ready for prototype manufacturing. The design phase should demonstrate that the redesign complies with Federal requirements applicable to buses.

3. Cost Sharing or Matching

The Federal share of project costs under this program is limited to eighty percent (80 percent). Applicants may seek a lower Federal contribution. The applicant must provide the local share of the net project cost in cash or in-kind, and must document in its application the source of the local match. Regardless of minimum share requirements, cost sharing is an evaluation criterion and proposals with higher local cost share than the minimum twenty percent (20 percent) share requirement will be considered more favorably. Cash and other high-quality match will be considered more favorably than in-kind cost matching, though all are acceptable. Eligible sources of local match are detailed in FTA Research Circular 6100.1E. (available at https://www.transit.dot.gov/regulations-and-guidance/fta-circulars/final-circulars).

4. Other Requirements

a. Evaluation and Data Requirements

Upon completion of Phase I, projects funded under this announcement will be required to gather and share all relevant and required data with FTA or its designated independent evaluator within appropriate and agreed-upon timelines, to support project evaluation. The Department may make available a secure data system to store data for evaluation (more information available at https://its.dot.gov/data/secure/), or recipients may suggest an appropriate third-party system where Departmental analysts can conduct their work, with FTA approval. Applicants should budget for the costs of data storage and sharing as appropriate.

In response to the White House Office of Science and Technology Policy memorandum dated February 22, 2013, entitled “Increasing Access to the Results of Federally Funded Scientific Research,” U.S. DOT is incorporating public access requirements into all funding awards (grants and cooperative agreements) for scientific research. All work conducted under the Redesign of Transit Bus Operator Compartment to Improve Safety, Operational Efficiency, and Passenger Accessibility Program must follow the Department data policies outlined in the DOT Public Access Plan at: https://ntl.bts.gov/public-access/how-comply. Recipients are required to include these obligations in any sub-awards or other related funding agreements.

FTA expects recipients to remove confidential business information (CBI) and Personally Identifiable Information (PII) before providing public access to project data. Recipients must ensure the appropriate data are accessible to FTA and/or the public for a minimum of five years after the award period of performance expires.

Additionally, information submitted as part of or in support of this demonstration program-funded project shall make every attempt to use publicly-available data or data that can be made public and methodologies that are accepted by industry practice and standards, to the extent possible. FTA recognizes that certain partnerships may pose a challenge to data sharing and will work with each recipient to develop an appropriate data management plan (DMP). Recipients must make available to FTA copies of all work developed in performance of a project funded under this announcement, including but not limited to software and data. Data rights shall be in accordance with 2 CFR 200.315, Intangible property.

If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law. If FTA receives a Freedom of Information Act (FOIA) request for the information, FTA will follow the procedures described in the U.S. DOT FOIA regulations (49 CFR part 7). Only information that is ultimately determined to be confidential under that procedure will be exempt from disclosure under FOIA. Should FTA receive an order from a court of competent jurisdiction ordering the release of the information, FTA will provide the recipient timely notice of such order to allow the recipient the opportunity to challenge such an order. FTA will not challenge a court order on behalf of a recipient.

Project teams may be asked to participate in information exchange meetings, webinars, or outreach events to support FTA's goal of advancing the state of the practice. Project teams will be required to work with FTA to support knowledge transfer by participating in a relevant community of practice or similar activity. Applicants should allocate a portion of their budgets to support such work, which may include travel or presentations at key industry gatherings, such as conferences of the American Public Transportation Association, Transportation Research Board, and U.S. DOT, among others.

D. Application and Submission Information

1. Address and Form of Application Submission

Project proposals must be submitted electronically through Grants.gov (www.grants.gov) by Tuesday, March 24, 2020. Mail and fax submissions will not be accepted. A complete proposal submission will consist of at least two files: (1) The SF 424 Mandatory form (downloaded from Grants.gov) and (2) the Applicant and Proposal Profile supplemental form for the “Redesign of Transit Bus Operator Compartment to Improve Safety, Operational Efficiency, and Passenger Accessibility Program” found on the FTA website at https://www.transit.dot.gov/research-innovation. The supplemental form provides guidance and a consistent format for applicants to respond to the criteria outlined in this NOFO. Once completed, the supplemental form must be placed in the attachments section of the SF 424 Mandatory form. Applicants must use the supplemental form designated for the “Redesign of Transit Bus Operator Compartment to Improve Safety, Operational Efficiency, and Passenger Accessibility Program” and attach it to their submission in Grants.gov to successfully complete the application process. A proposal submission may contain additional supporting documentation as attachments. Supporting documentation could include but is not limited to support letters, pictures, digitized drawings, and spreadsheets.

Within 24 to 48 hours after submitting an electronic application, the applicant should receive 3 email messages from Grants.gov: (1) Confirmation of successful transmission to Grants.gov, (2) confirmation of successful validation by Grants.gov, and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission. Complete instructions on the application process can be found at https://www.transit.dot.gov/grants. FTA strongly encourages applicants to submit their applications at least 72 hours prior to the due date to allow time to receive the validation messages and to correct any problems that may have caused a rejection notification. FTA will not accept submissions after the stated submission deadline for any reason. Grants.gov scheduled maintenance and outage times are announced on Grants.gov. Deadlines will not be extended due to scheduled maintenance or outages.

Applicants are encouraged to begin the process of registration on the Grants.gov website well in advance of the submission deadline. Instructions on registration process are available at Grants.gov. Registration is a multi-step process, which may take 3 to 5 days, but could take as long as several weeks to complete before an application can be submitted if the applicant needs to obtain certain identifying numbers external to Grants.gov (for example, applying for an Employer Identification Number). Registered applicants may still be required to take steps to keep their registration up to date before submissions can be made successfully: (1) Registration in the System for Award Management (SAM) is renewed annually and (2) persons making submissions on behalf of the Authorized Organization Representative (AOR) must be authorized in Grants.gov by the AOR to make submissions. Applicants may submit one proposal for each project but not one proposal containing multiple projects. Information such as proposer name, Federal amount requested, local match amount, description of areas served, etc. may be requested in varying degrees of detail on both the SF 424 Form and Supplemental Form. Applicants must fill in all fields unless stated otherwise on the forms. Applicants should use both the “CHECK PACKAGE FOR ERRORS” and the “VALIDATE FORM” validation buttons on both forms to check all required fields on the forms, and ensure that the Federal and local amounts specified are consistent. The information described in Sections “E” through “H” below MUST be included and/or addressed on the SF 424 Form and other supplemental forms for all requests for the “Redesign of Transit Bus Operator Compartment to Improve Safety, Operational Efficiency, and Passenger Accessibility Program” funding.

2. Proposal Content

At a minimum, every proposal must include an SF-424 form, with the Applicant and Proposal Profile supplemental form attached. The Applicant and Proposal Profile supplemental form for this Program can be found on the FTA website at https://www.transit.dot.gov/research-innovation.

Consistent with the Department's R.O.U.T.E.S. Initiative (https://www.transportation.gov/rural), the Department encourages applicants to describe how activities proposed in their application would address the unique challenges facing rural transportation networks, regardless of the geographic location of those activities.

All applicants are required to provide detailed information on the Applicant and Proposal Profile supplemental form, including:

(a) State the project title, the overall goals of the project, and describe the project scope, including anticipated deliverables.

(b) Discuss the current state of practice regarding bus operator safety, visibility, and passenger accessibility, their challenges, and how the proposed project will address those needs.

(c) Details on whether the proposed project is a new effort or a continuation of a prior research and degree of improvement over current bus compartment design and practices.

(d) Address each evaluation criterion separately, demonstrating how the project responds to each criterion as described in Section E of this notice, below.

(e) Provide a line-item budget for the total project with enough detail to indicate the various key components of the project. As FTA may elect to fund only part of some project proposals, the budget should provide for the minimum amount necessary to fund specific project components of independent utility. If the project can be scaled, provide a scaling plan describing the minimum funding necessary for a feasible project and the impacts of a reduced funding level.

(f) Provide the Federal amount requested and document the matching funds, including amount and source of the match (may include local or private sector financial participation in the project). Provide support documentation, including financial statements, bond-ratings, and documents supporting the commitment of non-federal funding to the project, or a timeframe upon which those commitments would be made.

(g) A project time-line outlining steps from project implementation through completion, including significant milestones and the roles of the responsible team members.

(h) The proposed methods to demonstrate the engineering designs and computer renderings of Phase I.

(i) The technologies and design modifications to be used in this project and explanation of the principle of operation.

(j) A description of any exceptions or waivers to FTA requirements or policies necessary to successfully implement the proposed project. FTA is not inclined to grant exceptions from its requirements, but may consider exceptions if the applicant can show a compelling benefit.

(k) Potential issues (technical or other) that may impact the success of the project.

(l) Address whether other Federal funds have been sought for the project.

(m) Provide Congressional district information for the project's place(s) of performance.

3. Unique Entity Identifier and System for Award Management (Sam) Registration in Brief

FTA recommends allowing ample time for completion of all steps.

STEP 1: Obtain DUNS Number: Same day. If requested by phone (1-866-705-5711) DUNS is provided immediately. Go to the Dun & Bradstreet website at http://fedgov.dnb.com/webform to obtain the number.

STEP 2: Register With SAM: Three to five business days or up to two weeks. If you already have a Taxpayer Identification Number (TIN), your SAM registration will take 3-5 business days to process. If you are applying for an EIN please allow up to 2 weeks. Ensure that your organization or an authorizing official is registered with SAM. FTA may not make a Federal award to an applicant until the applicant has complied with all applicable unique entity identifier and SAM requirements and, if an applicant has not fully complied with the requirements by the time FTA is ready to make a Federal award, FTA may determine that the applicant is not qualified to receive a Federal award and use that determination as a basis for making a Federal award to another applicant.

STEP 3: Username & Password: Same day. Complete your Authorized Organization Representative (AOR) profile on Grants.gov and create your username and password.

STEP 4: AOR Authorization: Same day. The organization's E-Business Point of Contact (E-Biz POC) must login to Grants.gov to confirm the AOR. Please note that there can be more than one AOR per organization. In some cases, the E-Biz POC is also the AOR for an organization.

STEP 5: Track AOR Status: At any time, you can track your AOR status by logging in with your username and password. Login as an Applicant under applicant profile.

4. Submission Dates and Times

Project proposals must be submitted electronically through http://www.grants.gov by 11:59 p.m. EST on Tuesday, March 24, 2020.

5. Funding Restrictions

Funds under this NOFO cannot be used to reimburse projects for otherwise eligible expenses incurred prior to FTA award of a Grant Agreement or Cooperative Agreement unless FTA has issued a “Letter of No Prejudice” for the project before the expenses are incurred.

This program is a research and development effort and as such FTA Circular 6100.1E rules will apply in administering the program (available at https://www.transit.dot.gov/regulations-and-guidance/fta-circulars/final-circulars).

E. Application Review

1. Evaluation Criteria

Projects will be evaluated by FTA according to the five evaluation criteria described in this section. Each applicant is encouraged to demonstrate the responsiveness of a project to all the criteria shown below with the most relevant information that the proposer can provide.

Consistent with the Department's R.O.U.T.E.S. Initiative (https://www.transportation.gov/rural), the Department recognizes that rural transportation networks face unique challenges. To the extent that those challenges are reflected in the merit criteria listed in this section, the Department will consider how the activities proposed in the application will address those challenges, regardless of the geographic location of those activities.

FTA will assess the extent to which a proposal addresses the following criteria:

a. Project Innovation and Impact

i. Effectiveness of the project in achieving and demonstrating the specific requirements identified under the objectives of this program.

ii. Degree of public and operator safety, and operational efficiency improvement over current and existing technologies applicable to the bus operator compartment design and passenger accessibility.

b. Project Approach

i. Quality of the project approach, including bus interface design, existing partnerships and collaboration strategies in meeting the objectives of the program.

ii. Level of cost share by project partners to support the proposed project (in-kind or cash).

iii. Details on whether the proposed project is a new effort or a continuation of a related research project and how the project plans to move from Phase I to Phase II if the proposed redesign is selected.

c. National Applicability

i. Degree to which the new compartment design could be replicated by other transit bus manufacturers regionally or nationally.

ii. Ability to evaluate technologies and designs in a wide variety of conditions and locales.

iii. Degree to which the proposed redesign could be used for buses of different capacity such as 35-foot or 60-foot buses. Applicability to smaller body-on-chassis buses is not required for this program, but is desirable.

iv. Degree to which the compartment design elements could be retrofitted to existing transit buses.

d. Team Capacity and Commitment

i. Timeliness of the proposed project schedule, and reasonableness of the proposed milestones.

ii. Availability of existing resources (physical facilities, human resources including bus operators and civil rights specialists, partnerships with TVMs and vendors) to carry out the project.

iii. Demonstrated capacity and experience of the partners to carry out project of similar size and/or scope.

iv. Clear performance management strategy for tracking results and a public data management plan approach including where data will be housed and shared.

e. Commercialization or Dissemination Plan

i. Demonstrates cost-effective manufacturability of the redesigned compartment.

ii. Description of how the project team plans to disseminate the result of the project to the transit industry.

iii. The anticipated intangible benefits, such as increasing bus operator retention, making public transportation service more appealing to potential passengers, providing educational opportunities, or reducing negative externalities such as bus operator injuries, stress, and downtime.

2. Review and Selection Process

A technical evaluation panel comprised of FTA subject matter expert and possibly other U.S. DOT staff will review project proposals against the evaluation criteria listed above. Members of the technical evaluation panel reserve the right to seek clarification from any applicant about any ambiguous statement in the proposal. FTA may also request additional documentation or information to be considered during the evaluation process. After a thorough evaluation of all valid proposals, the technical evaluation panel will provide project recommendations to the FTA Administrator. The FTA Administrator will determine the final list of project selections, and the amount of funding for each project. Geographic diversity, diversity of project type, and the applicant's receipt of other Federal funding may be considered in FTA's award decisions.

3. SAM Review

FTA, prior to making a Federal award with a total amount of Federal share greater than the simplified acquisition threshold (currently $350,000), is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FTA will consider any comments by the applicant, in addition to the other information in the designated integrity and performance system, in making a judgment about the applicant's integrity, business ethics, and record of performance under Federal awards when completing the review of risk posed by applicants as described in § 200.205 Federal awarding agency review of risk posed by applicants.

F. Federal Award Administration

FTA intends to fund as many meritorious projects as possible to support executing eligible project activities. To enhance the value of the portfolio of research and demonstration projects to be implemented, FTA reserves the right to request an adjustment of the project scope and budget of any proposal selected for funding. Such adjustments shall not constitute a material alteration of any aspect of the proposal that influenced the proposal evaluation or decision to fund the project.

FTA also reserves the right to terminate and re-compete a project(s) awarded under this notice when a project sponsor(s) fail to meet the requirements set forth under this notice.

1. Federal Award Notice

FTA will publish final project selections on the FTA website, to include a list of the selected projects, including Federal dollar amounts and recipients.

2. Administrative and National Policy Requirements

a. Pre-Award Authority

FTA will issue specific guidance to recipients regarding pre-award authority at the time of selection. FTA does not provide pre-award authority for competitive funds until projects are selected and the applicable Federal requirements are met. Preparation of proposals is not an eligible pre-award expense.

b. Grant Requirements

Successful proposals will be awarded through FTA's Transit Award Management System (TrAMS) as Cooperative Agreements.

c. Planning

FTA encourages applicants to engage the appropriate State Departments of Transportation, Regional Transportation Planning Organizations, or Metropolitan Planning Organizations in areas likely to be served by the project funds made available under this program.

d. Standard Assurances

The applicant assures that it will comply with all applicable Federal statutes, regulations, executive orders, FTA circulars, and other Federal administrative requirements in carrying out any project supported by the FTA grant or cooperative agreement. The applicant acknowledges that it is under a continuing obligation to comply with the terms and conditions of the grant or cooperative agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include submission of Federal Financial Reports and Milestone Progress Reports in FTA's electronic grants management system on a quarterly basis for all projects.

G. Federal Awarding Agency Contacts

For further information concerning this notice please contact Jamel El-Hamri at jamel.el-hamri@dot.gov or 202-366-8985. A TDD is available for individuals who are deaf or hard of hearing at 1-800-877-8339.

Issued in Washington, DC.
K. Jane Williams,
Acting Administrator.

[FR Doc. 2020-02624 Filed 2-10-20; 8:45 am]

BILLING CODE P